DEPARTMENT OF COMMERCE

International Trade Administration

[A-583-833]

Polyester Staple Fiber from Taiwan: Final Results of Changed-Circumstances Antidumping Duty Administrative Review

AGENCY: Import Administration, International Trade Administration, Department of Commerce.

SUMMARY: The Department of Commerce (the Department) has determined, pursuant to section 751(b) of the Tariff Act of 1930, as amended (the Act), that Far Eastern New Century Corporation (FENC) is the successor-in-interest to Far Eastern Textile Limited (FET) and, as a result, should be accorded the same treatment previously accorded to Far Eastern Textile Limited with regard to the antidumping duty order on polyester staple fiber from Taiwan.

DATES: Effective Date: July 8, 2010.

FOR FURTHER INFORMATION CONTACT: Michael A. Romani or Richard Rimlinger, AD/CVD Operations, Office 5, Import Administration, International Trade Administration, U.S. Department of Commerce, 14th Street and Constitution Avenue, NW., Washington, DC 20230; telephone: (202) 482-0198, or (202) 482-4477, respectively.

SUPPLEMENTARY INFORMATION:

Background

On January 26, 2010, pursuant to a request from FENC, we initiated a changed-circumstances review of the antidumping duty order on polyester staple fiber from Taiwan to determine whether FENC was the successor-in-interest to FET after the company changed its name. Concurrent with the initiation, we preliminarily determined that FENC is the successor-in-interest to FET. See Polyester Staple Fiber From Taiwan: Initiation and Preliminary Results of Changed-Circumstances Antidumping Duty Administrative Review, 75 FR 4044 (January 26, 2010). We did not receive any comments from interested parties. We did not hold a hearing as one was not requested. Based on our analysis, we are now affirming our preliminary results.

Scope of the Order

The product covered by the order is certain polyester staple fiber (PSF). PSF is defined as synthetic staple fibers, not carded, combed or otherwise processed for spinning, of polyesters measuring 3.3 decitex (3 denier, inclusive) or more in diameter. This merchandise is cut to lengths varying from one inch (25 mm) to five inches (127 mm). The merchandise subject to the order may be coated, usually with a silicon or other finish, or not coated. PSF is generally used as stuffing in sleeping bags, mattresses, ski jackets, comforters, cushions, pillows, and furniture. Merchandise of less than 3.3 decitex (less than 3 denier) currently classifiable in the Harmonized Tariff Schedule of the United States (HTSUS) at subheading 5503.20.00.20 is specifically excluded from the order. Also specifically excluded from the order are PSF of 10 to 18 denier that are cut to lengths of 6 to 8 inches (fibers used in the manufacture of carpeting). In addition, low-melt PSF is excluded from the order. Low-melt PSF is defined as a bi-component fiber with an outer sheath that melts at a significantly lower temperature than its inner core.

The merchandise subject to the order is currently classifiable in the HTSUS at subheadings 5503.20.00.45 and 5503.20.00.65. Although the HTSUS subheadings are provided for convenience and customs purposes, the written description of the merchandise subject to the order is dispositive.

Final Results of the Review

For the reasons stated in the preliminary results, we continue to find that FENC is the successor-in-interest to FET and, as a result, FENC should be accorded the same treatment as FET for the purposes of the antidumping duty order on polyester staple fiber from Taiwan. We will instruct U.S. Customs and Border Protection to collect cash deposits at 1.97 percent, the weighted-average dumping margin we found for FET in the most recently completed review. See Certain Polyester Staple Fiber From Taiwan: Final Results of Antidumping Duty Administrative Review, 74 FR 18348 (April 22, 2009).

Notification

This notice serves as a reminder to parties subject to administrative protective order (APO) of their responsibility concerning the disposition of proprietary information disclosed under APO in accordance with 19 CFR 351.306. Timely written notification of the destruction of APO materials or conversion to judicial protective order is hereby requested. Failure to comply with the regulations and terms of an APO is a sanctionable violation.

This notice is published in accordance with sections 751(b)(1) and 777(i) of the Act and 19 CFR 351.216 and 351.221.

Dated: June 30, 2010.
John M. Andersen,
Acting Deputy Assistant Secretary for Import Administration.

[FR Doc. 2010-16661 Filed 7-7-10; 8:45 am]

BILLING CODE 3510-DS-P